DEPARTMENT OF HEALTH AND HUMAN SERVICES

Centers for Disease Control and Prevention

[60Day-03-44]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: The Role of Housing in HIV/AIDS Prevention—New—National Center for HIV, STD, and TB Prevention (NCHSTP), Centers for Disease Control and Prevention (CDC).

The Centers for Disease Control and Prevention (CDC) and the Department of Housing and Urban Development (HUD) propose to study the effects of housing for homeless or unstably housed persons on the transmission of HIV and the health of persons living with HIV. Results from the study will be used by policy makers to better understand the types of housing and other affiliated services most likely to reduce HIV transmission and disease progression in the homeless population.

The population to be studied will be drawn from persons living with HIV/AIDS who are seeking housing services from three communities with unmet housing needs as evidenced by a waiting list for services, or other evidence of unmet housing need, through the Housing Opportunities for Persons with AIDS (HOPWA) program. The project will be a longitudinal cohort study, following participants for 18 months. Participants will be randomized into two groups. One group will receive vouchers for housing subsidies plus a 2-session behavioral intervention; the other group will receive referral to housing resources through participating and other agencies plus the 2-session behavioral intervention. No study participants will be denied access to other housing services that are available through participating agencies or other community resources. Since all participants receive the behavioral intervention, the study technically assesses the effects of housing over and above the behavioral intervention.

A cost study will also be conducted to determine the resources needed for this approach and the cost benefits of providing housing for homeless and unstable housed people living with HIV. The purpose of the cost study is to evaluate the effects of housing afford-ability and the cost-effectiveness (i.e. cost-utility ratio) of this strategy relative to other interventions in other public health and other HIV prevention interventions.

The burden for this collection is estimated to be approximately 90 minutes for the survey at baseline and at 6, 12, and 18 months after baseline and 120 minutes for the interview with HUD site service providers. Blood samples for CD4 and viral load counts will also be collected for all participants. These estimates include the time needed to determine if the respondent is eligible to be interviewed, obtain informed consent, and administer the interview.

There are no costs to respondents for participation in the survey other than their time.

Respondents | Number of respondents | Number of responses/respondent | Average burden/response (in hours) | Total burden (in hours)
HOPWA Program Participants | 1000 | 4 | 90/60 | 6000
HUD Site Service Provider | 15 | 1 | 2 | 30
Total |  |  |  | 6030

Dated: February 21, 2003.
Thomas Bartenfeld,
Acting Associate Director for Policy, Planning and Evaluation, Centers for Disease Control and Prevention.

[FR Doc. 03-4601 Filed 2-26-03; 8:45 am]

BILLING CODE 4163-18-P